DEPARTMENT OF COMMERCE

International Trade Administration

[C-570-193]

Erythritol From the People's Republic of China: Postponement of Preliminary Determination in the Countervailing Duty Investigation

AGENCY: Enforcement and Compliance, International Trade Administration, Department of Commerce.

DATES: Applicable February 19, 2025.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On January 2, 2025, the U.S. Department of Commerce (Commerce) initiated a countervailing duty (CVD) investigation of imports of erythritol from the People's Republic of China.¹ Currently, the preliminary determination of this CVD investigation is due no later than March 10, 2025.

¹ See Erythritol from the People's Republic of China: Initiation of Countervailing Duty Investigation, 90 FR 1962 (January 10, 2025).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 11, 2025, the petitioner ² in this CVD investigation submitted a timely request that Commerce postpone the preliminary determination.³ The petitioner stated that it requests postponement because “{t}he current deadline for the preliminary determination does not allow enough time to review respondent responses and issue supplemental questionnaires before reaching a preliminary determination.” ⁴

² The petitioner is Cargill, Incorporated.

³ See Petitioner's Letter, “Request for Postponement of Preliminary Determination,” dated February 11, 2025.

⁴ Id. at 2.

In accordance with 19 CFR 351.205(e), the petitioner submitted its request for postponement of the preliminary determination in this investigation 25 days or more before the scheduled date of the preliminary determination and stated the reasons for its request. Accordingly, Commerce finds no compelling reason to deny the request. Therefore, in accordance with section 703(c)(1)(A) of the Act, Commerce is postponing the deadline for the preliminary determination in this investigation to no later than 130 days after the date on which it initiated this investigation, i.e., May 12, 2025. Pursuant to section 705(a)(1) of the Act and 19 CFR 351.210(b)(1), the deadline for the final determination of this investigation will continue to be 75 days after the date of the preliminary determination.

Notification to Interested Parties

This notice is issued and published pursuant to section 703(c)(2) of the Act and 19 CFR 351.205(f)(1).

Dated: February 12, 2025.
Christopher Abbott,
Deputy Assistant Secretary for Policy and Negotiations, performing the non-exclusive functions and duties of the Assistant Secretary for Enforcement and Compliance.

[FR Doc. 2025-02797 Filed 2-18-25; 8:45 am]

BILLING CODE 3510-DS-P